DEPARTMENT OF COMMERCE

International Trade Administration

[A-570-929]

Small Diameter Graphite Electrodes From the People's Republic of China: Continuation of Antidumping Duty Order

AGENCY: Enforcement and Compliance, International Trade Administration, Department of Commerce.

SUMMARY: The Department of Commerce (the Department) and the International Trade Commission (the ITC) have determined that revocation of the antidumping duty (AD) order on small diameter graphite electrodes from the People's Republic of China (PRC) would likely lead to continuation or recurrence of dumping and material injury to an industry in the United States. Therefore, the Department is publishing a notice of continuation of this AD order.

DATES: Effective Date: June 23, 2014.

FOR FURTHER INFORMATION CONTACT: Michael Romani or Minoo Hatten, AD/CVD Operations, Office I, Enforcement and Compliance, International Trade Administration, U.S. Department of Commerce, 14th Street and Constitution Avenue NW., Washington, DC 20230; telephone: (202) 482-0198 or (202) 482-1690, respectively.

SUPPLEMENTARY INFORMATION:

Background

On January 2, 2014, the Department published the initiation of the first sunset review of the AD order on small diameter graphite electrodes from the PRC pursuant to section 751(c) of the Tariff Act of 1930, as amended (the Act) and 19 CFR 351.218(c).¹ As a result of its review, the Department determined that revocation of the AD order on small diameter graphite electrodes from the PRC would likely lead to continuation or recurrence of dumping, and notified the ITC of the magnitude of the margins likely to prevail should the order be revoked.² On June 6, 2014, pursuant to section 75l(c) of the Act, the ITC determined that revocation of the AD order on small diameter graphite electrodes from the PRC would likely lead to continuation or recurrence of material injury to an industry in the United States within a reasonably foreseeable time.³

¹ See Initiation of Five-Year (“Sunset”) Review, 79 FR 110 (January 2, 2014).

² See Small Diameter Graphite Electrodes From the People's Republic of China: Final Results of the Expedited Sunset Review of the Antidumping Duty Order, 79 FR 26208 (May 7, 2014).

³ See Small Diameter Graphite Electrodes From China, 79 FR 32750 (June 6, 2014).

Scope of the Order

The merchandise covered by the order includes all small diameter graphite electrodes of any length, whether or not finished, of a kind used in furnaces, with a nominal or actual diameter of 400 millimeters (16 inches) or less, and whether or not attached to a graphite pin joining system or any other type of joining system or hardware. The merchandise covered by the order also includes graphite pin joining systems for small diameter graphite electrodes, of any length, whether or not finished, of a kind used in furnaces, and whether or not the graphite pin joining system is attached to, sold with, or sold separately from, the small diameter graphite electrodes. Small diameter graphite electrodes and graphite pin joining systems for small diameter graphite electrodes are most commonly used in primary melting, ladle metallurgy, and specialty furnace applications in industries including foundries, smelters, and steel refining operations. Small diameter graphite electrodes and graphite pin joining systems for small diameter graphite electrodes that are subject to the order are currently classified under the HTSUS subheadings 8545.11.0010,⁴ 3801.10,⁵ and 8545.11.0020.⁶ The HTSUS numbers are provided for convenience and customs purposes, but the written description of the scope is dispositive.

⁴ The scope described in the order refers to the HTSUS subheading 8545.11.0000. We note that, starting in 2010, imports of small diameter graphite electrodes are classified in the HTSUS under subheading 8545.11.0010 and imports of large diameter graphite electrodes are classified under subheading 8545.11.0020.

⁵ See Small Diameter Graphite Electrodes From the People's Republic of China: Affirmative Final Determination of Circumvention of the Antidumping Duty Order, 77 FR 47596 (August 9, 2012) and accompanying Issues and Decision Memorandum at Comment 6 (the scope of the order is amended to include imports classifiable under HTSUS 3801.10, i.e., un-finished small diameter graphite electrodes).

⁶ See Small Diameter Graphite Electrodes From the People's Republic of China: Affirmative Final Determination of Circumvention of the Antidumping Duty Order and Rescission of Later-Developed Merchandise Anticircumvention Inquiry, 78 FR 56864 (September 16, 2013) and accompanying Issues and Decision Memorandum at Comments 1 and 2 (the scope of the order is amended to include large diameter graphite electrodes, specifically those of 17 inches produced by Jilin Carbon classifiable under HTSUS 8545.11.0020).

Continuation of the Order

As a result of the determinations by the Department and the ITC that revocation of the AD order would likely lead to continuation or recurrence of dumping and material injury to an industry in the United States, pursuant to section 75l(d)(2) of the Act and 19 CFR 351.218(a), the Department hereby orders the continuation of the AD order on small diameter graphite electrodes from the PRC. Customs and Border Protection (CBP) will continue to collect AD cash deposits at the rates in effect at the time of entry for all imports of subject merchandise. The effective date of the continuation of the orders will be the date of publication in the Federal Register of this notice of continuation. Pursuant to section 751(c)(2) of the Act and 19 CFR 351.218(c)(2), the Department intends to initiate the next five-year review of this order not later than 30 days prior to the fifth anniversary of the effective date of this continuation notice.

This sunset review and this notice are in accordance with section 751(c) of the Act and published pursuant to section 777(i)(1) of the Act and 19 CFR 351.218(f)(4).

Dated: June 16, 2014.
Lynn Fischer Fox,
Deputy Assistant Secretary for Policy and Negotiations.

[FR Doc. 2014-14602 Filed 6-20-14; 8:45 am]

BILLING CODE 3510-DS-P